DEPARTMENT OF COMMERCE

National Oceanic and Atmospheric Administration

RIN 0648-XF152

Council Coordination Committee Meeting; Addendum

AGENCY: National Marine Fisheries Service (NMFS), National Oceanic and Atmospheric Administration (NOAA), Commerce.

ACTION: Notice of a public meeting; additional information regarding agenda and webinar.

SUMMARY: NMFS will host a meeting of the Council Coordination Committee (CCC), consisting of the Regional Fishery Management Council chairs, vice chairs, and executive directors on February 28-March 1, 2017. The intent of this meeting is to discuss issues of relevance to the Councils and NMFS, including issues related to the implementation of the Magnuson-Stevens Fishery Conservation and Management Reauthorization Act. Agenda items include discussions on budget allocations for FY2017 and budget planning for FY2018; an update on current joint science initiatives, including Ecosystem Based Fisheries Management; the FY2017 legislative outlook; updates on planning for the CCC Scientific Coordination Committee meeting, NMFS bycatch reduction strategy, the NMFS National Standard 1 guidance and implementation, Marine Recreational Information Program updates, stock assessment improvement plan; and other topics related to implementation of the Magnuson-Stevens Fishery Conservation and Management Reauthorization Act. All sessions are open to the public.

DATES: The meeting and webinar will begin at 8:30 a.m. on Tuesday, February 28, 2017, recess at 5:00 p.m. or when business is complete; and reconvene at 8:30 a.m. on Wednesday, March 1, 2017, and adjourn by 3:30 p.m. or when business is complete.

ADDRESSES: The meeting will be held at the Ritz-Carlton, Pentagon City, 1250 South Hayes Street; Arlington, VA 22202; Telephone: (703) 415-5000. The meeting presentations will also be available via WebEx webinar/conference call.

On Tuesday, February 28, 2017, the conference call information is phone number 888-455-5378; Participant Code 8262839; and the webinar event address is: https://noaaevents3.webex.com/noaaevents3/onstage/g.php?MTID=e71293830f973912c143fa64ae763187d; event password: NOAA.

On Wednesday, March 1, 2017, the conference call information is phone number 888-455-5378; Participant Code: 8262839; and the webinar event address is: https://noaaevents3.webex.com/noaaevents3/onstage/g.php?MTID=eb8395a0a32359253a01f718217e7158d; event password: NOAA.

FOR FURTHER INFORMATION CONTACT: Brian Fredieu: telephone 301-427-8505 or email at Brian.Fredieu@noaa.gov.

SUPPLEMENTARY INFORMATION: The original notice published in the Federal Register on January 12, 2017 (82 FR 3725). This notice includes additional information regarding the agenda and webinar details. The Magnuson-Stevens Fishery Conservation and Management Reauthorization Act established the CCC by amending Section 302 (16 U.S.C. 1852) of the MSA. The committee consists of the chairs, vice chairs, and executive directors of each of the eight Regional Fishery Management Councils authorized by the MSA or other Council members or staff. Updates to this meeting and additional information will be posted on http://www.nmfs.noaa.gov/sfa/management/councils/ccc/ccc.htm when available.

Proposed Agenda

Tuesday, February 28, 2017

8:30 a.m.—Morning session begins

• Welcome/Introductions

• NMFS Update & FY17 Priorities

• Management and Budget update

• Legislative Outlook

• MSA Reauthorization & CCC Comments

• Council Member Conflict of Interest and Recusal National guidance update

• National Standard 1 Guidelines: Questions and Clarifications

• National Bycatch Reduction Strategy Update

• Marine National Monuments and Fishing Restrictions

5:15 p.m.—Adjourn for the day

Thursday, March 1, 2017

9 a.m.—Morning Session Begins

• NMFS Science Update

• EBFM Roadmap Implementation

• National Academics of Science MRIP Review and Recommendations

• MRIP Strategic Plan

• Report to CCC on 2016 FAO Meeting

• Update on the Scientific Coordination Committee meeting (SCS-6)

• Other business

3:30 p.m.—Adjourn for the day

The order in which the agenda items are addressed may change. The CCC will meet as late as necessary to complete scheduled business.

Special Accommodations

This meeting is physically accessible to people with disabilities. Requests for sign language interpretation or other auxiliary aids should be directed to Brian Fredieu at 301-427-8505 at least five working days prior to the meeting.

Dated: February 14, 2017.
Emily H. Menashes,
Acting Director, Office of Sustainable Fisheries, National Marine Fisheries Service.

[FR Doc. 2017-03232 Filed 2-16-17; 8:45 am]

BILLING CODE 3510-22-P